DEPARTMENT OF THE INTERIOR

Fish and Wildlife Service

[FWS-R2-ES-2010-N013; 20124-1113-0000-F5]

Endangered and Threatened Species Permit Applications

AGENCY: Fish and Wildlife Service, Interior.

ACTION: Notice of receipt of applications; request for public comment.

SUMMARY: The following applicants have applied for scientific research permits to conduct certain activities with endangered species under the Endangered Species Act of 1973, as amended (Act). The Act requires that we invite public comment on these permit applications.

DATES: To ensure consideration, written comments must be received on or before March 8, 2010.

ADDRESSES: Written comments should be submitted to the Chief, Endangered Species Division, Ecological Services, P.O. Box 1306, Room 6034, Albuquerque, NM 87103. Documents and other information submitted with these applications are available for review, subject to the requirements of the Privacy Act and Freedom of Information Act. Documents will be available for public inspection, by appointment only, during normal business hours at the U.S. Fish and Wildlife Service, 500 Gold Ave., SW., Room 6034, Albuquerque, NM. Please refer to the respective permit number for each application when submitting comments.

FOR FURTHER INFORMATION CONTACT: Susan Jacobsen, Chief, Endangered Species Division, P.O. Box 1306, Albuquerque, NM 87103; (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-00284A

Applicant: Stephanie Rainwater, Collinsville, Oklahoma.

Applicant requests a new permit for research and recovery purposes to conduct presence/absence surveys for American burying beetle (Nicrophorus americanus) within Oklahoma, Texas, Kansas, Nebraska, Arkansas, and South Dakota.

Permit TE-00294A

Applicant: Jeanette Larsen, Cherokee, Texas.

Applicant requests a new permit for research and recovery purposes to conduct presence/absence surveys for the following species: Texas blind salamander (Typhlomolge rathbuni), San Marcos salamander (Eurycea nana), Barton Springs salamander (Eurycea sosorum), Peck's Cave amphipod (Stygobromus pecki), Comal Springs dryopid beetle (Stygoparnus comalensis), Comal Springs riffle beetle (Heterelmis comalensis), Coffin Cave mold beetle (Batrisodes texanus), Helotes mold beetle (Batrisodes venyivi), Kretschmarr Cave mold beetle (Texamaurops redelli), ground beetle (Rhadine exilis), ground beetle (Rhadine infernalis), Tooth Cave ground beetle (Rhadine persephone), Robber Baron Cave meshweaver (Cicurina baronia), Madla Cave meshweaver (Cicurina madla), Braken Bat Cave meshweaver (Cicurina venii), Government Canyon Bat Cave meshweaver (Cicurina vespera), Government Canyon Bat Cave spider (Neoleptoneta microps), Tooth Cave spider (Leptoneta myopica), Tooth Cave psuedoscorpion (Tartarocreagris texana), Bee Creek Cave harvestman (Texella reddelli), Bone Cave harvestman (Texella reyesi), and Cokendolpher Cave harvestman (Texella cokendolpheri) within Texas.

Permit TE-151216

Applicant: Lawrence Stevens, Flagstaff, Arizona.

Applicant requests an amendment to a current permit for research and recovery purposes to conduct presence/absence surveys for Virgin River chub (Gila seminuda) within Arizona.

Permit TE-00599A

Applicant: Frank Holland, Willow Park, Texas.

Applicant requests a new permit for research and recovery purposes to conduct presence/absence surveys for golden-cheeked warbler (Dendroica chrysoparia) and black-capped vireo (Vireo atricapilla) within Texas.

Permit TE-00975A

Applicant: Osage Nation, Department of Environment and Natural Resources, Pawhuska, Oklahoma.

Applicant requests a new permit for research and recovery purposes to conduct presence/absence surveys for American burying beetle (Nicrophorus americanus) within Oklahoma.

Permit TE-022190

Applicant: Arizona Sonora Desert Museum, Tucson, Arizona.

Applicant requests an amendment to a current permit for research and recovery purposes to conduct presence/absence surveys for southwestern willow flycatcher (Empidonax taillii extimus) within Arizona.

Permit TE-01690A

Applicant: Aaron Corcoran, Winston Salem, North Carolina.

Applicant requests a new permit for research and recovery purposes to conduct presence/absence surveys of lesser long-nosed bat (Leptonycteris curasoae yerbabuenae) within Arizona.

Authority: 16 U.S.C. 1531 et seq.

Dated: January 27, 2010.
Thomas L. Bauer,
Regional Director, Southwest Region, Fish and Wildlife Service.

[FR Doc. 2010-2376 Filed 2-3-10; 8:45 am]

BILLING CODE 4310-55-P